DEPARTMENT OF DEFENSE

Department of the Army; Corps of Engineers

Intent To Prepare a Draft Environmental Impact Statement for the Raritan Bay and Sandy Hook Bay, Combined Erosion Control and Storm Damage Reduction Study, Borough of Keyport, Monmouth County, NJ: Feasibility Phase

AGENCY: Department of the Army, U.S. Army Corps of Engineers, DoD.

ACTION: Notice of intent.

SUMMARY: The New York District of the U.S. Army Corps of Engineers (Corps) is preparing a Draft Environmental Impact Statement (DEIS), in compliance with the National Environmental Policy Act (NEPA), which will lead to a NEPA document in accordance with Council on Environmental Quality (CEQ) regulations, as defined and amended in 40 CFR parts 1500-1508 (promulgated pursuant to NEPA), Corps' principles and guidelines as defined in Engineering Regulations (ER) 1105-2-100, Planning Guidance Notebook, and ER 200-2-2, Procedures for Implementing NEPA, and other applicable Federal and State environmental laws for the proposed storm damage reduction project in the Borough of Keyport, Monmouth County, NJ.

The study area consists of low-lying areas along the Raritan Bay shoreline between and including Luppatatong Creek to the west and Chingarora Creek to the east in the Borough of Keyport, Monmouth County, NJ. Bay area flooding primarily occurs in the low-lying commercial areas located in the central and northwestern portions of the Borough and in residential areas to the northeast. Flooding also occurs in areas adjacent to Luppatatong and Chingarora Creeks.

FOR FURTHER INFORMATION CONTACT: Mr. Ronald Pinzon, Project Biologist, Planning Division, Environmental Analysis Branch, U.S. Army Corps of Engineers, New York District, 26 Federal Plaza, New York, NY, 10278-0090, (212) 264-2199, or Ronald.R.Pinzon@usace.army.mil.

SUPPLEMENTARY INFORMATION: 1. This study is authorized by a resolution of the Committee on Public Works and Transportation of the U.S. House of Representatives dated August 1, 1990, reading: “Resolved by the Committee on Public Works and Transportation of the United States House of Representatives, that, the Board of Engineers for Rivers and Harbors is requested to review the report of the Chief of Engineers on Raritan Bay and Sandy Hook Bay, New Jersey, published as House Document No. 464, Eighty-seventh Congress, Second Session, and other pertinent reports, to determine the advisability of modifications to the recommendations contained therein to provide erosion control and storm damage prevention for the Raritan Bay and Sandy Hook Bay.”

2. A public scoping meeting is scheduled for September 2003. Results from the public scoping meeting with Federal, State, and local agencies, as well as the public, will be addressed in the DEIS.

3. Federal agencies interested in participating as a Cooperating Agency are requested to submit a letter of intent to Colonel John B. O'Dowd, District Engineer, at the above address.

4. Estimated date of DEIS availability: August 2004.

Leonard Houston,
Chief, Environmental Analysis Branch.

[FR Doc. 03-20266 Filed 8-7-03; 8:45 am]

BILLING CODE 3710-06-M